DEPARTMENT OF LABOR

Employment and Training Administration

[TA-W-54,418]

Flexfab LLC, a Division of Flexfab Horizon International, Albion, IN; Notice of Termination of Investigation

Pursuant to section 221 of the Trade Act of 1974, as amended, an investigation was initiated on March 12, 2004, in response to a petition filed by a company official on behalf of workers at Flexfab LLC, a division of Flexfab Horizon International, Albion, Indiana.

The petitioner has requested that the petition be withdrawn. Consequently, further investigation would serve no purpose and the investigation has been terminated.

Signed in Washington, DC this 14th day of April, 2004.
Linda G. Poole,
Certifying Officer, Division of Trade Adjustment Assistance.

[FR Doc. E4-1017 Filed 5-3-04; 8:45 am]

BILLING CODE 4510-13-P